DEPARTMENT OF TRANSPORTATION

Maritime Administration

[Docket No. MARAD-2021-0183]

Request for Comments of a Previously Approved Information Collection: Quarterly Readiness of Strategic Seaport Facilities Reporting

AGENCY: Maritime Administration, Transportation (DOT).

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on May 21, 2021.

DATES: Comments must be submitted on or before September 16, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Matthew Butram, Maritime Administration, at matthew.butram@dot.gov or at 202-366-1976. You may send mail to Matthew Butram, Office of Sealift Support, Room W25-218, Mail Stop 1, Maritime Administration, U.S. Department of Transportation, 1200 New Jersey Avenue SE, Washington, DC 20590.

SUPPLEMENTARY INFORMATION: Title: Quarterly Readiness of Strategic Seaport Facilities Reporting.

OMB Control Number: 2133-0548.

Type of Request: Renewal of a Previously Approved Information Collection.

Background: Pursuant to E.O. 12656 and 49 CFR 1.81, the Maritime Administration (MARAD) issues, for emergency planning and preparedness purposes, a Port Readiness Plan (PRP) to each strategic commercial seaport (port) designated by the Commander, Military Surface Deployment and Distribution Command (SDDC). The PRP identifies specific facilities that DoD may need to support the deployment of Armed Forced of the United States or other emergency needs to promote the national defense. The collection of quarterly information is necessary to validate the ports' ability to provide PRP-delineated facilities to the DOD within the PRP-delineated timeline.

Respondents: Strategic Commercial Seaports who have been designated by the Commander, SDDC and who have been issued a PRP by MARAD.

Affected Public: Strategic Commercial Seaports.

Total Estimated Number of Respondents: 17.

Frequency of Response: Quarterly.

Estimated Number of Responses: 4.

Estimated Time per Respondent: 1 Hour.

Total Estimated Number of Annual Burden Hours: 68.

Public Comments Invited: Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

(Authority: The Paperwork Reduction Act of 1995; 44 U.S.C. Chapter 35, as amended; and 49 CFR 1.93)

By Order of the Acting Maritime Administrator.
T. Mitchell Hudson, Jr.,
Secretary, Maritime Administration.

[FR Doc. 2021-17595 Filed 8-16-21; 8:45 am]

BILLING CODE 4910-81-P